DEPARTMENT OF COMMERCE

National Institute of Standards and Technology

Board of Overseers of the Malcolm Baldrige National Quality Award

AGENCY: National Institute of Standards and Technology, Department of Commerce.

ACTION: Notice of open meeting.

SUMMARY: The Board of Overseers of the Malcolm Baldrige National Quality Award (Board) will meet in open session on Thursday, December 5, 2024. The purpose of this meeting is to review and discuss the work of the Baldrige Performance Excellence Program to implement improvements to the Malcolm Baldrige National Quality Award (Award), and to provide recommendations to the Director of the National Institute of Standards and Technology (NIST) as the Board deems necessary. Details on the agenda are noted in the SUPPLEMENTARY INFORMATION section of this notice.

DATES: The meeting will be held on Thursday, December 5, 2024, from 10:00 a.m. Eastern time until 4:00 p.m. Eastern time. The meeting will be open to the public.

ADDRESSES: The meeting will be held virtually via webinar. Please note admittance instructions under the SUPPLEMENTARY INFORMATION section of this notice.

FOR FURTHER INFORMATION CONTACT: Robert Fangmeyer, Director, Baldrige Performance Excellence Program, National Institute of Standards and Technology, 100 Bureau Drive, Mail Stop 1020, Gaithersburg, Maryland 20899-1020, telephone number (301) 975-2361, or by email at robert.fangmeyer@nist.gov.

SUPPLEMENTARY INFORMATION:

Authority: 15 U.S.C. 3711a(d)(2)(B) and the Federal Advisory Committee Act, as amended, 5 U.S.C. 1001 et seq.

Pursuant to the Federal Advisory Committee Act, as amended (FACA), 5 U.S.C. 1001 et seq., notice is hereby given that the Board will meet in open session on Thursday, December 5, 2024, from 10:00 a.m. Eastern time until 4:00 p.m. Eastern time. The Board is currently composed of twelve members selected for their preeminence in the field of organizational performance excellence and appointed by the Secretary of Commerce. The Board consists of a balanced representation from U.S. service, manufacturing, nonprofit, education, and healthcare industries. The Board includes members familiar with the quality, performance improvement operations, and competitiveness issues of manufacturing companies, service companies, small businesses, nonprofits, healthcare providers, and educational institutions. The purpose of this meeting is to review and discuss the work of the Baldrige Performance Excellence Program (Program) to implement improvements to the Malcolm Baldrige National Quality Award (Award), and to provide recommendations to the Director of the National Institute of Standards and Technology (NIST) as the Board deems necessary. The agenda will include: Report on Program Accomplishments for 2024, Update on Baldrige Reimagined Implementation, Baldrige Foundation Update, Alliance for Performance Excellence Update, Communities of Excellence Update, and Recommendations for the NIST Director. The agenda may change to accommodate Board business. The final agenda will be posted on the NIST Baldrige Performance Excellence website at http://www.nist.gov/baldrige/community/overseers.cfm. The meeting will be open to the public.

Individuals and representatives of organizations who would like to offer comments and suggestions related to the Board's affairs are invited to request a place on the agenda. On December 5, 2024, approximately one-half hour will be reserved in the afternoon for public comments and speaking times will be assigned on a first-come, first-served basis. The amount of time per speaker will be determined by the number of requests received but is likely to be about 3 minutes each. The exact time for public comments will be included in the final agenda that will be posted on the Baldrige Program website at http://www.nist.gov/baldrige/community/overseers.cfm. Questions from the public will not be considered during this period. Requests must be submitted by email to Robyn Decker at Robyn.Decker@nist.gov and must be received by noon Eastern Time, December 2, 2024, to be considered. Speakers who wish to expand upon their oral statements, those who had wished to speak, but could not be accommodated on the agenda, and those who were unable to attend are invited to submit written statements to the Baldrige Performance Excellence Program, NIST, 100 Bureau Drive, Mail Stop 1020, Gaithersburg, Maryland 20899-1020, via fax at 301-975-4967 or electronically by email to Robyn.Decker@nist.gov.

All participants will be attending virtually via webinar and need to pre-register to be admitted. Please contact Mrs. Robyn Decker by email at Robyn.Decker@nist.gov; Mailing Address: NIST c/o Robyn Decker, 100 Bureau Drive, MS 1020, Gaithersburg, MD 20899; or 301-975-2361, please provide her with your name, email, and phone number; and she will provide you with instructions for admittance. All requests must be received by noon Eastern Time, December 2, 2024.

Alicia Chambers,
NIST Executive Secretariat.

[FR Doc. 2024-27336 Filed 11-20-24; 8:45 am]

BILLING CODE 3510-13-P